DEPARTMENT OF DEFENSE

Department of the Army; Corps of Engineers

Intent To Prepare an Environmental Impact Statement/Report for the Sun Valley Environmental Restoration Project, Los Angeles County, CA

AGENCY: Department of the Army; U.S. Army Corps of Engineers, DOD

ACTION: Notice of intent.

SUMMARY: The U.S. Corps of Engineers (Corps) intends to prepare an Environmental Impact Statement/Environmental impact Report (EIS/EIR) for the Sun Valley Environmental Restoration Plan. The study area is located in the City of Los Angeles, in the San Fernando Valley portion of Los Angeles County, CA. The study area is comprised of 4.4 square miles of urban/industrial areas.

The proposed Study will be conducted under the Authority for the Los Angeles County Drainage area (LACDA), Flood Control Project, Los Angeles County, CA. Which was initially authorized by Senate Resolution, approved June 25, 1969, reading in part:

“Resolved by the Committee on Public Works of the United States Senate, that the Board of Engineers for Rivers and Harbors, created under Section 3 of the Rivers and Harbors Act, approved June 13, 1902, be, and is hereby requested to review the report to the Chief of Engineers on the Los Angeles and San Gabriel Rivers and Ballona Creek, California, Published a House Document Numbered 838, Seventy-sixth Congress, and other pertinent reports, with a view to determining whether any modifications contained therein are advisable at the present time, in the resources in the Los Angeles County Drainage Area.”

DATES: Submit comments on or before May 9, 2007.

ADDRESSES: Mail comments to Mr. Ronald Lockmann, U.S. Army Corps of Engineers, Los Angeles District, Environmental Resources Branch, Army Corps of Engineers, Los Angeles District, CESPL-PD-RN, 915 Wilshire Blvd., Los Angeles, CA 90017.

FOR FURTHER INFORMATION CONTACT: Mr. Ronald Lockmann, Phone (213) 452-3847; Fax (213) 452-4204 or E-mail: RonaldF.Lockmann@usace.army.mil.

SUPPLEMENTARY INFORMATION: This NOI is published to announce the Corps' intent to prepare an Environmental Impact Statement/Environmental Impact Report (EIS/EIR0 for the proposed environmental restoration project on a sub basin of the LACDA system and vicinity, City of Los Angeles, Los Angeles County, CA. This plan attempts to reclaim sustainable native ecosystems on this site. The Tujunga Wash Reconnaissance Study (of which the Sun Valley Watershed was a part), dated September 2003, concluded “although a detailed feasibility-level study of the complexity of the watershed would be an important first step, there do exist * * * opportunities for future environmental restoration studies. Essentially, conceptual alternatives would consist of a number of potential combinations of restoration sites operating in conjunction with one another * * * Total land area of alternative sites combined would be several hundred acres.”

Sites would likely include one or more of the three major gravel extraction pits within the watershed, including the Sheldon Pit, the Boulevard Pit, and the Strathern Pit. The primary purpose, working in conjunction with the Local sponsor, Los Angeles County Department of Public Works, would be to facilitate ecosystem restoration through re-establishment of native riparian, upland vegetation, creating constructed wetlands where feasible. Implementation of the proposed project would increase habitat quality of several degraded sites, and provide opportunity for wildlife species use and promote recreational opportunity. In addition, the proposed project includes water conservation, construction infiltration basins, and storm drains.

Scoping Process. to initiate preparation of the EIS/EIR, the Corps will conduct a public scoping meeting. The public meeting would be conducted during the month of April 2007. Date, time and location of the public scoping meeting will be announced by means of letter, public announcements, news release or announced in the local news paper in the Sun Valley area. This scoping meeting will be held to solicit public input on significant environmental issues associated with restoring and expanding the native habitat and provide technical water conservation and recreational opportunities.

The EIS/EIR will address potential impacts associated with the proposed action. Resource categories that will be analyzed are: land use, physical environment, geology, biological, agricultural, air quality, water quality, groundwater, recreational usage, esthetics, cultural, transportation/communications, hazardous waste material, socioeconomic and safety. the public, as well as Federal, State and local agencies are encouraged to participate in the scoping process by attending the scoping meeting and/or submitting data, information, and comments identifying relevant environmental and socioeconomic issues to be addressed in the environmental analysis.

Individuals and agencies may offer information pertinent or data relevant to the proposed study and provide comments by mailing the information within thirty (30) days to Mr. Ronald Lockmann. Requests to be placed on the mailing list for announcements and the draft EIS also should be sent to Mr. Lockmann.

Brenda S. Bowen
Army Federal Register Liaison Officer.

[FR Doc. 07-1744 Filed 4-6-07; 8:45 am]

BILLING CODE 3710-KF-M